DEPARTMENT OF COMMERCE

International Trade Administration

A-357-812

Honey from Argentina: Notice of Partial Rescission of Antidumping Duty Administrative Review

AGENCY: Import Administration, International Trade Administration, Department of Commerce.

SUMMARY: The Department of Commerce (the Department) is rescinding its administrative review of 19 companies under the antidumping duty order of honey from Argentina for the period December 1, 2003 to November 30, 2004. This rescission in part, is based on the timely withdrawal of the request for review by the respective interested party that requested the review. A complete list of the companies for which the administrative review is being rescinded is provided in the background section below.

DATES: Effective Date: April 15, 2005.

FOR FURTHER INFORMATION CONTACT: David Cordell or Robert James, AD/CVD Operations, Office 7, Import Administration, International Trade Administration, U.S. Department of Commerce, 14th Street and Constitution Avenue, NW, Room 7866, Washington, DC 20230; telephone (202) 482-0408 and (202) 482-0649, respectively.

SUPPLEMENTARY INFORMATION:

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under the scope of the order is currently classifiable under subheadings 0409.00.00, 1702.90.90, and 2106.90.99 of the Harmonized Tariff Schedule of the United States (HTSUS). Although the HTSUS subheadings are provided for convenience and U.S. Customs and Border Protection (CBP) purposes, the Department's written description of the merchandise under this order is dispositive.

Background:

On December 1, 2004, the Department published its notice of an opportunity to request a review in the Federal Register. See Antidumping or Countervailing Duty Order, Finding, or Suspended Investigation; Opportunity to Request Administrative Review, 69 FR 69889 (December 1, 2004). In response, on December 30, 2004, the American Honey Producers Association and the Sioux Honey Association ( collectively 'petitioners') requested an administrative review of the antidumping duty order on honey from Argentina for the period December 1, 2003, through November 30, 2004. The petitioners requested that the Department conduct an administrative review of entries of subject merchandise made by 24 Argentine producers/exporters. In addition, the Department received requests for review from two Argentine exporters included in the petitioners' request and from one additional exporter.

On January 31, 2005 the Department initiated a review on all 25 companies for which an administrative review was requested. See Initiation of Antidumping and Countervailing Duty Administrative Reviews and Request for Revocation in Part, 70 FR 4818 (January 31, 2005) and the Corrections Notice, 70 FR 7143 (February 10, 2005).

On February 22, 2005, petitioners submitted timely withdrawal of requests for review of the following companies: Centauro S.A., Comexter Robinson S.A., Compa Inversora Platense S.A., ConAgra Argentina S.A., Coope-Riel Ltda., Cooperativa DeAgua Potable y Otros, Establecimiento Don Angel S.r.L, Food Way, S.A., Francisco Facundo Rodriguez, Jay Bees, Jose Luis Garcia, Navicon S.A., Parodi Agropecuaria S.A., Times S.A., and Mielar S.A. See Letter from petitioners to the Department, Honey From Argentina, (February 22, 2005), on file in the Central Records Unit (CRU), room B-099 of the main Department building. On February 24, 2005, both petitioners and Nexco (an exporter) submitted letters withdrawing their individual requests for review of Nexco. See letters from petitioners and from Nexco to the Department, Honey From Argentina, (February 24, 2005), on file in the CRU. On February 24, 2005, petitioner rescinded its withdrawal with respect to Mielar. On March 9, 2005, El Mana S.A. (an exporter) submitted a letter withdrawing its request for the administrative review of El Mana S.A. See letter El Mana S.A. to the Department, Honey From Argentina, (March 9, 2005), on file in the CRU. On March 31, 2005, petitioners submitted timely withdrawal of requests for review of the following companies: Compania Apicola Argentina (CAA), Mielar and TransHoney S.A. (TransHoney). See Letter from petitioners to the Department, Honey From Argentina, (March 31, 2005), on file in the Central Records Unit (CRU), room B-099 of the main Department building

Rescission in Part, of Administrative Review:

The applicable regulation, 19 CFR 351.213(d)(1), states that if a party that requested an administrative review withdraws the request within 90 days of the publication of the notice of initiation of the requested review, the Secretary will rescind the review in whole or in part. The petitioners made a timely withdrawal of their requests for an administrative review within the 90-day deadline, in accordance with 19 CFR 351.213(d)(1) for the following companies: Centauro S.A., Comexter Robinson S.A., Compa Inversora Platense S.A., Compania Apicola Argentina S.A., ConAgra Argentina S.A., Coope-Riel Ltda., Cooperativa DeAgua Potable y Otros, Establecimiento Don Angel S.r.L, Food Way, S.A., Francisco Facundo Rodriguez, Jay Bees, Jose Luis Garcia, Mielar S.A., Navicon S.A., Parodi Agropecuaria S.A., Times S.A, and TransHoney S.A. Because petitioners were the only party to request the administrative review of these companies, we have accepted the withdrawal requests and we are rescinding this administrative review of the antidumping duty order on honey from Argentina covering the period December 1, 2003, through November 30, 2004 for the aforementioned companies.

With respect to Nexco, because both petitioners and the respondent requested the administrative review of Nexco, and because both parties submitted withdrawal requests, we are rescinding this administrative review with respect to Nexco. With respect to El Mana S.A., because the respondent requested the administrative review of El Mana S.A., and because El Mana S.A. submitted a timely withdrawal request, we are also rescinding this administrative review with respect to El Mana S.A.

The Department will issue appropriate assessment instructions directly to the CBP within 15 days of the publication of this notice. The Department will direct CBP to assess antidumping duties for these companies at the cash deposit rate in effect on the date of entry for entries during the period December 1, 2003 to November 30, 2004.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(2)(C) and 777(i)(1) of the Tariff Act of 1930, as amended.

Dated: April 8, 2005.
Barbara E. Tillman,
Acting Deputy Assistant Secretary for Import Administration.

[FR Doc. E5-1789 Filed 4-14-05; 8:45 am]

BILLING CODE 3510-DS-S